DEPARTMENT OF DEFENSE

Office of the Secretary

Defense Advisory Committee on Military Personnel Testing (DACMPT); Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the DACMPT will take place.

DATES:

Day 1—Open to the public Thursday, December 15, 2022 from 8:30 a.m. to 5:15 p.m., Pacific Time.

Day 2—Open to the public Friday, December 16, 2022 from 8:30 a.m. to 1:30 p.m., Pacific Time.

ADDRESSES: Venue to-be-determined (TBD). Meeting details will be posted on: https://dacmpt.com.

FOR FURTHER INFORMATION CONTACT: Designated Federal Officer (DFO), Dr. Sofiya Velgach, (703) 697-9271 (Voice), 703 614-9272 (Facsimile), osd.pentagon.ousd-p-r.mbx.dacmpt@mail.mil (Email). Mailing address is Designated Federal Officer, Accession Policy, Office of the Under Secretary of Defense for Personnel and Readiness, Room 3D1066, The Pentagon, Washington, DC 20301-4000.

SUPPLEMENTARY INFORMATION: This meeting is being held under the provisions of the Federal Advisory Committee Act (FACA) of 1972 (5 U.S.C. Appendix, as amended), the Government in the Sunshine Act of 1976 (5 U.S.C. 552b, as amended), and 41 Code of Federal Regulations (CFR) 102-3.140 and 102-3.150.

Purpose of the Meeting: The purpose of the meetings is to provide an overview of the accession testing program to the new DACMPT members, review progress on the test development efforts, and gather advice on current testing capabilities. Additional information can be found at https://dacmpt.com.

Agenda

Day 1, Thursday, December 15, 2022

8:30 a.m.-8:45 a.m. Welcome and Opening Remarks, Dr. Sofiya Velgach, OASD(M&RA)/AP

8:45 a.m.-9:15 a.m. Accession Policy Introduction, TBD, OASD(M&RA)/AP

9:15 a.m.-10:00 a.m. New Member Briefing, Dr. Mary Pommerich, OPA/DTAC

10:00 a.m.-10:15 a.m. Break

10:15 a.m.-11:00 a.m. Milestones Briefing, Dr. Mary Pommerich, OPA/DTAC*

11:00 a.m.-12:00 p.m. ASVAB Form development, Dr. Matt Trippe, HumRRO

12:00 p.m.-1:30 p.m. Lunch

1:30 p.m.-3:30 p.m. Next Generation ASVAB/Testing, Dr. Mary Pommerich (OPA/DTAC)

a. ASVAB Evaluation Plan, Dr. Mary Pommerich (OPA/DTAC)

b. ASVAB/AFQT Validity Framework, Dr. Deirdre Knapp (HumRRO)

c. Training Relevance Survey, Dr. Scott Oppler (HumRRO)

d. Focus Groups, Dr. Kimberly Adams (HumRRO)

3:30 p.m.-3:45 p.m. Break

3:45 p.m.-4:15 p.m. Norming Requirements/Plans, Dr. Pamela Baumer, HumRRO

4:15 p.m.-5:00 p.m. Device expansion plans, Dr. Tia Fechter, OPA/DTAC

5:00 p.m.-5:15 p.m. Public Comments

Day 2, Friday, December 16, 2022

8:30 a.m.-9:30 a.m. ASVAB Adverse Impact, Dr. Greg Manley, OPA/DTAC

9:30 a.m.-10:30 a.m. AFQT Differential Prediction, Dr. Dan Putka, HumRRO

10:30 a.m.-10:45 a.m. Break

10:45 a.m.-11:15 a.m. Complex Reasoning, Dr. Mike Ingerick, HumRRO

11:15 a.m.-11:45 a.m. Computational Thinking, Dr. Kimberly Adams, HumRRO

11:45 a.m.-12:00 p.m. Break

12:00 p.m.-12:45 p.m. ASVAB CEP Update, TBD

12:45 p.m.-1:00 p.m. Future topics—Mary Pommerich, DTAC

1:00 p.m.-1:15 p.m. Public Comments

1:15 p.m.-1:30 p.m. Closing Comments, Dr. Nancy Tippins, Chair

Abbreviations Key

ASVAB—Armed Services Vocational Aptitude Battery

ASVAB CEP—ASVAB Career Exploration Program, student testing program provided free to high schools nation-wide to help students develop career exploration skills and used by recruiters to identify potential applicants for enlistment

AFQT—Armed Forces Qualification Test

CAT—Computer Adaptive Testing

HumRRO—Human Resources Research Organization

OASD(M&RA)/AP—Office of the Assistant Secretary of Defense (Manpower & Reserve Affairs)/Accession Policy

OPA/DTAC—Office of People Analytics/Defense Testing and Assessment Center

Meeting Accessibility: Public's Accessibility to the Meeting: Pursuant to 5 U.S.C. 552b and 41 CFR 102-3.140 through 102-3.165, and the availability of space, this meeting is open to the public. Seating availability is based on first-come, first-served basis. All members of the public, who wish to attend the public meeting, must contact the DFO no later than 12:00 p.m. on Monday, December 5, 2022, as listed in the FOR FURTHER INFORMATION CONTACT section.

Written Statements: Pursuant to 41 CFR 102-3.105(j) and 102-3.140 and section 10(a)(3) of the FACA, interested persons may submit written statements to the DACMPT at any time about its approved agenda or at any time on the DACMPT's mission. Written statements should be submitted to the DACMPT's DFO at the address or facsimile number listed in the FOR FURTHER INFORMATION CONTACT section. If statements pertain to a specific topic being discussed at the planned meeting, then these statements must be submitted no later than five (5) business days prior to the meeting in question. Written statements received after this date may not be provided to, or considered by the DACMPT until its next meeting. The DFO will review all timely submitted written statements and provide copies to all the DACMPT members before the meeting that is the subject of this notice. Please note that since the DACMPT operates under the provisions of the FACA, all submitted comments and public presentations will be treated as public documents and will be made available for public inspection. Opportunity for public comments will be provided at the end of each day. Public comments will be limited to 5 minutes per person, as time allows.

Dated: November 17, 2022.
Aaron T. Siegel,
Alternate OSD Federal Register Liaison Officer, Department of Defense.

[FR Doc. 2022-25481 Filed 11-22-22; 8:45 am]

BILLING CODE 5001-06-P